DEPARTMENT OF LABOR

Employment and Training Administration

Workforce Investment Act, Section 171(d), Demonstration Program: Sectoral Employment Demonstration

AGENCY: Employment and Training Administration, Labor.

ACTION: Notice of Availability of Funds and Solicitation for Grant Applications (SGA).

This notice contains all of the necessary information and forms needed to apply for grant funding.

SUMMARY: The U.S. Department of Labor (DOL), Employment and Training Administration (ETA), announces a demonstration program to inform partners in America's Workforce Network (AWN) about sectoral employment strategies that help local communities keep pace with economic changes and address change in ways that benefit both American workers and businesses. The program encompasses two types of grant awards to test the feasibility of the workforce development system to plan and undertake local/regional initiatives involving a particular industry sector in order to increase access to employment for targeted groups and to strengthen the economic competitiveness and performance of the sector's firms. The two types of grant awards will be: (1) Sectoral Initiative Formation Grants, and (2) Sectoral Initiative Implementation Grants. The activities are expected to include: (1) Examining, designing, and implementing an array of improvements to the sector's human resource practices including, but not limited to, recruitment, career ladders, training, and mentoring and (2) identifying groups in the community in need of employment assistance.

DATES: The closing date for receipt of applications is Friday, May 18, 2001. Applications must be received by 4:00 p.m. (Eastern Daylight Time) at the address below. Applications that do not meet the conditions set forth in this notice will not be honored. Telefacsimile (FAX) applications will not be honored.

ADDRESSES: Applications must be mailed to: U.S. Department of Labor; Employment and Training Administration, Division of Federal Assistance, 200 Constitution Avenue, N.W., Room S-4203, Washington, D.C. 20210, Attention: B. Jai Johnson, Reference: SGA/DFA 01-104.

FOR FURTHER INFORMATION CONTACT: Questions should be faxed to B. Jai Johnson, Division of Federal Assistance at (202) 693-2879. (This is not a toll-free number.) All inquiries should include the SGA/DFA 01-104 and contact name, fax and phone numbers. This solicitation will also be published on the Internet on the Employment and Training Administration's (ETA) Home Page at http://www.doleta.gov. Award notifications will also be published on the ETA Home Page.

Hand-Delivered Proposals

Proposals should be mailed at least five (5) days prior to the closing date. However, if proposals are hand-delivered, they must be received at the designated address by 4:00 p.m., Eastern Daylight Time, Friday, May 18, 2001. All overnight mail will be considered to be hand-delivered and must be received at the designated place by the specified closing date and time. Telegraphed, e-mailed and/or faxed applications will not be honored. Failure to adhere to the above instructions will be a basis for a determination of non-responsiveness.

Late Proposals

Any proposal at the office designated in this solicitation after the exact time specified for receipt will not be considered, unless it is received before the awards are made and it was either:

• Sent by U.S. Postal Service Express Mail Next Day Service Post Office to Addressee, not later than 5:00 p.m. at the place of mailing two working days before the date specified for receipt of the proposals. The term “working days” excludes weekends and U.S. Federal holidays.

• Sent by registered or certified mail not later than the fifth calendar day before the date specified for receipt of applications (e.g., an application submitted in response to a solicitation requiring receipt of applications by the 20th of the month must have been mailed by the 15th of the month). The only acceptable evidence to establish the date of mailing of a late proposal sent by either U.S. Postal Service registered or certified mail is the U.S. postmark both on the envelope or wrapper and on the original receipt from the U.S. Postal Service. Both postmarks must show a legible date or the proposal shall be processed as if mailed late. “Postmark” means a printed, stamped, or otherwise placed impression (exclusive of a postage meter machine impression) that is readily identifiable without further action as having been supplied and affixed by an employee of the U.S. Postal Service on the date of the mailing. Therefore, offerors should request the postal clerk to place a legible hand cancellation “bull's eye” postmark on both the receipt and the envelope or wrapper. Both postmarks must show a legible date, or the application shall be processed as though it had been mailed late.

Withdrawal of Applications

Applications may be withdrawn by written notice or telegram (including a mail gram) received at any time before an award is made. Applications may be withdrawn in person by the applicant or by an authorized representative thereof, if the representative's identity is made known and the representative signs a receipt for the proposal.

SUPPLEMENTARY INFORMATION: ETA is soliciting proposals on a competitive basis for the Sectoral Employment Demonstration program. It is envisioned that the program will encompass two types of grant awards focusing on the initial development of sectoral initiatives including stakeholder group formation and strategic planning and on the implementation of selected sectoral interventions aimed at increasing employment and firm economic performance.

This announcement consists of five (5) parts:

• Part I—Background.

• Part II—Eligible Applicants and the Application Process.

• Part III—Statement of Work.

• Part IV—Review Process and Evaluation Criteria.

• Part V—Monitoring, Reporting and Evaluation.

Part I. Background

A. Authority

Section 171(d) of the Workforce Investment Act of 1998 (WIA) (Public Law 105-220, 29 U.S.C. 2916) authorizes the use of funds for demonstration projects for dislocated workers from funds made available to the Secretary under section 132(a)(2)(A) of WIA (29 U.S.C. 2862). In addition, the DOL FY 2000 Appropriations Act of November 29, 1999, authorizes the use of dislocated worker demonstration funds to provide assistance to incumbent workers and new entrants in the workforce (Public Law 106-113, 113 Stat 1501, 1501A-217). Demonstration program grantees must comply with all applicable federal and state laws and regulations in setting up and carrying out their program.

B. Purpose

The purpose of this demonstration is to test the feasibility of the workforce development system to plan and undertake local/regional initiatives involving a particular industry sector in order to increase access to employment for designated target groups and to strengthen the economic competitiveness and performance of the sector's firms. Sectoral interventions require an in-depth knowledge of and extensive work with a particular industry as well as a substantial knowledge of and commitment to assisting targeted populations needing improved employment opportunities. The activities are expected to include: (1) Examining, designing, and implementing an array of improvements to the sector's human resource practices including, but not limited to, recruitment, career ladders, training, and mentoring and (2) identifying specific groups in the community in need of employment assistance. In undertaking this demonstration program, the Department wishes to examine whether reported successes with these types of interventions can be replicated with particular reference to increasing employment opportunities and industry performance and whether local Workforce Investment Boards (Local Boards) can become major catalysts in these activities. Local Board success in these endeavors would be in keeping with the roles envisioned under WIA for the Local Boards in such areas as developing employer linkages, coordinating with economic development, promoting private sector involvement in the workforce investment system, and developing workforce investment plans as part of a comprehensive workforce investment system focusing on individual employment goals and the needs of firms for skilled workers.

DOL intends that this demonstration program inform partners in America's Workforce Network (AWN) about sectoral employment strategies that help local communities keep pace with economic changes and address change in ways that benefit both American workers and businesses. AWN is an umbrella partnership of federal, State, and local governments; the private sector; labor organizations; educational institutions; and community- and faith-based organizations that administer ETA-funded programs. Local and regional labor markets have changed dramatically over the past decade. DOL is looking for new ways to help prepare the 21st century workforce. This demonstration program will encourage fresh approaches for AWN partners to use in equipping American workers with the skills and knowledge needed for fulfilling and rewarding careers and workers' employers with the skills needed to maintain their firms' economic competitiveness.

C. Types of Projects

Two types of grant awards are under this solicitation. The first, Sectoral Initiative Formation Grants, are designed to allow for the initial development and planning of a local sectoral initiative including establishing a knowledge base of strategies and practices, the selection of a target industry, formation of a sectoral stakeholder group, an analysis of community and industry needs relevant to the targeted industry, and the development of a strategic plan for implementing a specific sectoral intervention. The second type of grant award, Sectoral Initiative Implementation Grants, are designed for the implementation of specific interventions focusing at targeted individuals, firms, and measured outcomes. These grant awards also allow for some initial planning development, but are designed for those applicants who have had some prior experience in the planning and/or implementation of sectoral practices.

D. Grant Awards

DOL anticipates awarding $3.8 million for approximately 35 grants (for the two types of grants referenced above). Sectoral Initiative Formation Grants are not to exceed $75,000 per grant, and Sectoral Initiative Implementation Grants are not to exceed $150,000 per grant.

E. Period of Performance

The period of performance will be 12 months for Sectoral Initiative Formation Grants and 15 months for Sectoral Initiative Implementation Grants, from the date of execution by the Government.

F. Option To Extend

DOL may exercise the option to extend the Sectoral Initiative Formation Grants for 15 months for the purpose of allowing the implementation of sectoral initiatives planned for in the initial grant award. Such an option shall be in an amount not to exceed $100,000. The Department may exercise this option depending on the availability of funds, the successful completion of the initial grant, and the needs of the Department.

G. Allowable Activities

Funds provided through this demonstration may be used to support staff and other costs necessary to undertake the activities and outcomes described in Part III below for the two types of grant awards under this solicitation.

Successful awardees for the Sectoral Initiative Formation Grants will be expected to include in their budget at least $10,000 to cover the salary and fringe benefit costs of one or two key staff of the applicant. Participation of these staff will indicate a commitment by the Local Board to these activities and help ensure a continuation of these efforts from planning to implementation.

Successful awardees for the Sectoral Initiative Implementation Grants, which require participant training as part of the services to be provided, will be expected to include in their budget, training and necessary supportive services costs, identified separately, which together constitutes 30-40% of grant funding. Some activities for which training costs could be applied include:

(a) Development, testing, and initial application of curricula, focused on intensive, short-term training to get participants into productive, high-demand employment as quickly as possible;

(b) Working with employers to develop and apply worksite-based learning strategies that use cutting-edge technology and equipment;

(c) Development of employer-based training programs that will take advantage of opportunities created by employers' needs for workers with new skills;

(d) Development and initial application of contextual learning opportunities for participants to learn occupational theory in a classroom setting, while applying that learning in an on-the-job setting; and/or

(e) Use of curriculum and skills training programs that are designed to impart learning to meet employer-specified or industry specific skill standards or certification requirements.

Prospective applicants should be aware that grant funds may not be used for the following purposes:

(a) To pay stipends for program participants;

(b) To pay salaries for program participants;

(c) For acquisition of production equipment;

(d) For acquisition of real estate or buildings.

Applicants may budget limited amounts of funds to work with technical experts or consultants to provide advice and develop more complete project plans after a grant award.

H. Coordination

In order to maximize the use of public resources and avoid duplication of effort, applicants shall coordinate the delivery of services under this demonstration with the delivery of services under other programs (public or private), available to all or part of the target group. Projects which link or collaborate with an existing WIA funded One-Stop Career Center, industry training initiatives, and similar activities within a project area fulfill this requirement.

Part II. Eligible Applicants and the Application Process

A. Eligible Applicants and Participants

Applicants eligible to apply for grant awards under this solicitation are limited to Local Workforce Investment Boards (Local Boards) as defined under section 117 of WIA. For this solicitation, eligible applicants may apply for only one of the two types of grant awards referenced in Part I-C above. Proposals received from the same applicant for both grant awards will not be considered. Prospective eligible applicants which have had minimal or no experience with sector initiatives should consider applications for the Sectoral Initiative Formation Grants, which are designed to lay the groundwork for the subsequent initiation of sectoral initiatives. In contrast, the Sectoral Initiative Implementation Grants require some previous applicant experience in this area.

All participants who receive services in projects funded under this demonstration program must be either:

(a) Eligible dislocated workers. This is defined at section 101(9) of the Workforce Investment Act (29 U.S.C. 2801). The Workforce Investment Act may be viewed at http://usworkforce.org/asp/act.asp. Proposed projects may target subgroups of the eligible population based on factors such as, but not limited to, income, occupation, industry, nature of dislocation, and reason for unemployment; or

(b) Incumbent workers. These are currently-employed workers whose employers have determined that the workers require training in order to help keep their firms competitive and the subject workers employed, avert layoffs, upgrade workers' skills, increase wages earned by employees and/or keep workers' skills competitive; or

(c) New entrants. These are persons aged 18 years and over who have limited work histories and for whom the type of employment assistance and training envisioned under this demonstration will lead to self-sufficiency.

Note: Except as specifically provided, DOL/ETA acceptance of a proposal and an award of federal funds to sponsor any program(s) does not provide a waiver of any grant requirements and/or procedures. For example, the OMB circulars require an entity's procurement procedures must require that all procurement transactions shall be conducted, as practical, to provide open and free competition. If a proposal identifies a specific entity to provide the services, the DOL/ETA's award does not provide the justification or basis to sole-source the procurement, i.e., avoid competition.

B. Proposal Submission

Applicants must submit four (4) copies of their proposal with original signatures. The proposal must consist of two (2) distinct parts, Part I and Part II. Part I of the proposal, the financial application, shall contain the Standard Form SF-424, “Application for Federal Assistance” (Appendix A) and the Budget Information Form (Appendix B). The Catalog of Federal Domestic Assistance number is 17.255. Applicants shall indicate on the SF-424 the organization's IRS status, if applicable. According to the Lobbying Disclosure Act of 1995, section 18 (25 U.S.C. 1611), an organization described in section 501(c)(4) of the Internal Revenue Code of 1986 which engages in lobbying activities shall not be eligible for the receipt of federal funds constituting an award, grant, or loan. The individual signing the SF-424 on behalf of the applicant must represent the responsible financial and administrative entity for a grant should that application result in an award.

1. Budget

The budget must include on separate pages detailed breakouts of each proposed budget line item found in the Budget Information Form including detailed administrative costs. The Salaries line item shall be used to document the project staffing plan by providing a detailed listing of each staff position providing more than .05 Full Time Employee (FTE) support to the project, by annual salary, number of months assigned to demonstration responsibilities, and the FTE percentage to be charged to the grant. In addition, for the Contractual line item, each planned contract and the amount of the contract shall be listed. For each budget line item that includes funds or in-kind contributions from a source other than the requested grant funds, the source, the amount, and in-kind contributions, including any restrictions that may apply to these funds, shall be identified. The budget shall include sufficient funds for a one two-person trip to a DOL-sponsored grant orientation meeting in Washington, D.C. of approximately 3-4 days. In addition to the above, the detailed breakouts shall indicate the costs associated with each major activity identified in the technical proposal submitted.

Since Sectoral Initiative Formation Grant awards are to assist in providing a knowledge base of sectoral initiatives to Local Boards and their partners, applications for those grants shall include in their budgets sufficient funds for three two-person trips each of 3-4 days duration to be taken in consultation with DOL should an award be granted. These trips are designed to permit first-hand observation of successful sectoral initiatives around the country and for discussions with counterpart staff on useful sectoral practices and strategies. (Note: It is expected that at least one of the two persons traveling on these learning visits is a key Local Board staff person.) Applicants for Sectoral Initiative Formation Grant awards will be expected to include in their detailed budget, at least $10,000 to cover the salary and fringe benefits costs of one or two key Local Board staff who will be working on the project. The detailed budget also shall indicate the name(s) of the key staff, titles, annual salary and fringe benefits costs, and the amount of time key staff will devote to the project during the project year.

For Sectoral Initiative Implementation Grant awards, the detailed budget shall indicate costs for training and necessary supportive services indicated separately. Per Part I.G., training and supportive services combined constitute 30-40% of grant funding.

2. Technical Proposal

Part II, the technical proposal, shall demonstrate the offeror's capabilities in accordance with the Statement of Work in Part III of this solicitation and shall clearly indicate the type of grant award for which the application is being made. The technical proposal shall be limited to twenty-five (25) double-spaced, single-side, 8.5-inch × 11-inch pages with 1-inch margins. An Executive Summary not to exceed two pages must be included and will be counted within the 25 page limit. Include in the summary the target population(s) and target industry of focus and, if applying for the Implementation Grants, the types of key stakeholders currently working in your area on sectoral initiatives. Attachments shall not exceed ten (10) pages including the required Appendices A-C listed at the end of this SGA. Text type shall be 11 point or larger. NO COST DATA OR REFERENCE TO PRICE SHALL BE INCLUDED IN THE TECHNICAL PROPOSAL.

Part III. Statement of Work

Applicants must submit the appropriate technical proposal for the type of grant award for which the application is made. Each technical proposal must follow the format outlined here. The evaluation criteria on which proposals will be rated relate to a specific section of this Part against which the criteria will be applied. For each section, the application should include: (1) Information that responds to the requirements in this Part; (2) information that indicates adherence to the provisions described in Parts I and II of this solicitation; and (3) other information the applicant believes will address the rating criteria identified in Part IV.

A. Sectoral Initiative Formation Grants

Describe the approaches that will be used to undertake the activities numbered 1-7 below during the first nine months of the grant's period of performance:

1. Establishment of a broad coalition of stakeholders in a local labor market area that will finalize one industry sector selected for focus, identify the target group(s) to be served, provide ongoing community support, identify the programs and policies needed to improve employment access to the sector, identify industry and employer needs, and oversee the development of the demonstration activities. Provide evidence or a statement of intent indicating that the stakeholder coalition has/will include in its membership relevant employers, community-based organizations, community development corporations, economic development agencies, labor organizations, training institutions, employer/industry associations, and other local organizations in addition to key Local Board officials. Reference also shall be made to the collective nature of major decision making in the coalition.

2. Development of a strategic plan to implement and fund a sector project at the conclusion of the period of performance of the grant. The plan is to address both the targeted industry's needs for enhanced economic performance and ways to increase employment opportunities for a designated target group(s) (note eligible participants listed in Part II.A.). Specific measured outcomes pertaining to these two broad areas should be identified. The plan shall include among its recommendations for action specific measures to be undertaken by the Local Board in conjunction with the sector stakeholders for implementing a subsequent sector initiative. (A copy of the completed plan shall be sent to DOL by the end of the ninth month of the grant's period of performance.)

3. Analysis of labor market data including wages and benefits, vacancy and turnover problems in the industry sector selected, and data on the target group(s).

4. Analysis of the impediments and opportunities for improved human resources utilization within the target industry sector, e.g., recruitment practices, career ladders, job classifications, work-based learning, skill certification, education and training benefits.

5. Analysis of local area training capacity and providers.

6. Contacts with ongoing projects in the target industry or similar sectors which could provide useful technical assistance in developing a final strategic plan for implementation.

7. Other activities identified by the applicant which would support the development of a successful sectoral intervention.

Provide a statement of intent that the Local Board during the last three months of the grant period of performance will: (1) engage with its stakeholder coalition in a series of community presentations of the strategic plan developed; and (2) work to implement the plan.

B. Sectoral Initiative Implementation Grants

Describe briefly current local efforts by the applicant and key stakeholders to plan and/or implement a sectoral initiative(s), the timeframe involved, industry sector(s) chosen, target population(s) assisted, and results obtained. Indicate how the plan addresses specific measures to be undertaken by the Local Board for this initiative. Provide a brief description of the membership of the stakeholder coalition, its objectives, when formed, frequency of its meetings, and any other factors that demonstrate that the coalition is an active and functioning entity.

Describe any needed efforts to complete and complement existing local stakeholder work already in progress to develop a strategic plan to implement a sectoral initiative including specific measures to be undertaken by the Local Board. (Note: this activity is optional depending on whether your local area requires some additional planning efforts.)

Describe the strategy and efforts that will be made for the outreach and recruitment of individuals from the target population(s) that will be assisted in this sectoral initiative.

Describe the workforce training to be provided to the target population(s) selected as a focus for this demonstration. Such training can include, but is not limited to, skill training, literacy training, and pre-apprenticeship and apprenticeship offerings. Explain how the training proposed meets two broad goals: (1) Industry sector needs for training; and (2) an upgrading of skills of the target population leading to economic self-sufficiency. Indicate the nature of the supportive services to be provided and the eligibility criteria to be used in providing them.

Describe the approaches to be undertaken for at least one of the activities numbered 1-5 below:

1. Enterprise development training or other related workforce investment activities for creating new or enhanced employment opportunities in the target industry sector.

2. Industry-based services designed to retain target sector employers in the local area, increase efficiency or enhance industry development, e.g., joint marketing strategies, access to new markets, technology modernization.

3. Activities designed to increase the scale, industry partners, or regional reach of an existing sectoral project.

4. Activities to redesign recruitment, wages, benefits, working conditions, retention, and other human resource policies of industry firms with a particular focus on improving access to the industry by low income workers.

5. Activities designed to create new job classifications, career ladders, or other advancement opportunities for improving career mobility.

Describe the specific measured outcomes that will be the focus of the above activities and relate them to the two broad areas of sectoral initiatives: (1) Improved economic performance of the targeted sector and (2) improved economic opportunities for the designated target population(s).

Part IV. Review Process and Evaluation Criteria

A careful evaluation of applications will be made by a technical review panel who will evaluate the applications against the criteria listed in this SGA. The panel results will be advisory in nature and not binding on the Grant Officer. The Government may elect to award the grant with or without discussions with the offeror. In situations without discussion, an award will be based on the offeror's signature on the SF-424, which constitutes a binding offer. The Grant Officer will make final award decisions based upon what is most advantageous to the Federal Government in terms of geographical mix, technical quality, and other factors.

Evaluation Criteria

A. Goals and Methods (30 points)

1. The project is aimed at addressing an important workforce development (and economic development) concern or concerns in the target area by engaging local stakeholders in an effective strategic planning exercise.

2. The project design describes how the information gathered will be sufficiently detailed and wide-ranging, timely, and relevant to the project's strategic goals.

3. The project design is aimed at producing a comprehensive approach to an industry sector initiative and adequately addresses the improvement of the targeted industry sector's human resources practices and utilization as well as the improvement of the employment opportunities for the targeted population(s) to be served.

B. Collaboration/Community Involvement (25 points)

1. The collaboration on which the project is built is consistent with the goals of the project. (For example, the collaboration includes stakeholders within an entire labor market area, regardless of Local Board boundaries.)

2. The collaboration on which the project is built has strong ties to the employer community and the Local Board.

3. The collaboration on which the project is built is broadly representative of the affected stakeholders. (In particular, the collaboration reaches beyond the traditional workforce investment community to involve other community actors such as economic development organizations, community development corporations (CDC's), community-based organizations (CBO's), employer organizations/industry associations, labor organizations, neighborhood organizations, and so on).

4. The design and governance of the project ensure that all stakeholders have a real voice in the conduct of the project and in the strategic decisions that flow from it. The project design ensures that citizens of the affected community are more involved in and have voice in the conduct of the project.

C. Commitment (15 points)

1. The participating community demonstrates a serious commitment to strategic planning.

2. The participating community demonstrates particular commitment to this project through its contribution of resources as required by this solicitation for the type of grant for which application is made.

D. Potential Use and Value of Results (15 points)

1. The project process, structure and outcomes offer lessons, tools, or other products that will assist other communities throughout the country to understand and use the information in creating workforce development initiatives.

2. The project design has the ability to broaden the role and responsibility of the Local Board consistent with state and local plans including the strength and scope of partnerships.

E. Cost Effectiveness (15 points)

The proposed budget is reasonable in relation to the activities planned. The extent to which non-grant resources will assist in achieving the project's objectives can be determined.

Part V. Monitoring, Reporting and Evaluation

A. Monitoring

The Department shall be responsible for ensuring effective implementation of each competitive grant project in accordance with the Act, the federal regulations, the provisions of this announcement and the negotiated grant agreement. Applicants should assume that at least one on-site project review will be conducted by Department staff or their designees. This review will focus on the project's performance in meeting the grant's programmatic goals, expenditure of grant funds on allowable activities, collaboration with other organizations as required, and methods for assessment of the responsiveness and effectiveness of the activities being undertaken. Grants may be subject to additional reviews at the discretion of the Department.

B. Reporting

DOL will arrange for or provide technical assistance to grantees in establishing appropriate reporting and data collection methods and processes taking into account the applicant's project management plan. An effort will be made to accommodate and provide assistance to grantees to be able to complete all reporting electronically.

Applicants selected as grantees are required to provide the following reports:

1. Monthly progress reports, during initial start-up and implementation of the project, and Quarterly Progress Reports thereafter.

2. Standard Form 269, Financial Status Report Form, on a quarterly basis.

3. Final Project Report including an assessment of project performance due at the end of the grant period of performance. This report will be submitted in hard copy and on electronic disk using a format and instructions provided by the Department. A draft of the final report is due to the Department 45 days before the end of the grant's period of performance.

C. Evaluation

DOL will arrange for or conduct an independent evaluation to determine the extent to which the demonstration projects funded by this solicitation were undertaken as planned, the nature of the results achieved, and those factors which facilitated or impeded the success of the projects. Grantees must agree to make available records on participants and employers as well as project financial and management data and to provide access to personnel, as specified by the evaluator(s) under the direction of the Department.

Signed at Washington, D.C., this 4th day of April, 2001.
Laura A. Cesario,
Grant Officer, Division of Federal Assistance.

Appendices

Appendix A—Application for Federal Assistance (SF-424)

Appendix B—Budget Information Form

Appendix C—Application Checklist

BILLING CODE 4510-30-P

[FR Doc. 01-8652 Filed 4-12-01; 8:45 am]

BILLING CODE 4510-30-C